DEPARTMENT OF ENERGY

Federal Energy Regulatory Commission

Notice of Application Accepted for Filing and Soliciting Motions To Intervene and Protests and Establishing Procedural Schedule for Relicensing

October 22, 2004.

Take notice that the following hydroelectric application has been filed with the Commission and is available for public inspection.

a. Type of Application: New Major License.

b. Project No.: 2195-011.

c. Date filed: August 26, 2004.

d. Applicant: Portland General Electric Company.

e. Name of Project: Clackamas River Hydroelectric Project, P-2195 (formerly Oak Grove, P-135 and North Fork, P-2195 projects).

f. Location: On the Oak Grove Fork of the Clackamas River on Mount Hood National Forest, and on the Clackamas River in Clackamas County, Oregon, near Estacada, Oregon.

g. Filed Pursuant to: Federal Power Act, 16 U.S.C. 791 (a)-825(r).

h. Applicant Contact: Julie Keil, Portland General Electric, 121 SW Salmon Street, Portland, Oregon 97204, Phone: 503-464-8864.

i. FERC Contact: John Blair at 202-502-6092; e-mail john.blair@ferc.gov.

j. Cooperating agencies: We are asking Federal, State, local, and tribal agencies with jurisdiction and/or special expertise with respect to environmental issues to cooperate with us in the preparation of the environmental document. Agencies who would like to request cooperating status should follow the instructions for filing documents described in item k below.

k. Deadline for filing motions to intervene and protests and requests for cooperating agency status: 60 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests and requests for cooperating agency status may be filed electronically via the Internet in lieu of paper. The Commission strongly encourages electronic filings. See 18 CFR 385.2001(a)(1)(iii) and the instructions on the Commission's Web site (http://www.ferc.gov) under the “e-Filing” link.

l. This application has been accepted, but is not ready for environmental analysis at this time.

m. The existing 44-megawatt Oak Grove development consists of a 100-foot-high dam at the lower end of Timothy Lake, and a 68-foot-high diversion dam below Lake Harriet, both on the Oak Grove Fork of the Clackamas River. The powerhouse is located on the Clackamas River. The Oak Grove development is located on U.S. Forest Service and Bureau of Land Management land. The 129-megawatt North Fork development is located on the Clackamas River and is composed of: a 206-foot-high dam with powerhouse located at the lower end of North Fork Reservoir; a 47-foot-high dam with powerhouse located at the lower end of Faraday Lake; and a 85-foot-high dam with powerhouse located at the lower end of Estacada Lake. The North Fork development is located on U.S. Forest Service and Bureau of Land Management land. On June 18, 2003, Oak Grove and North Fork licenses were amended combining the two projects into one license called the Clackamas River Project No. 2195.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

o. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

p. Procedural Schedule: The application will be processed according to the following schedule. Revisions to the schedule may be made as appropriate.

Milestone | Date
Application Acceptance | October 22, 2004.
Interventions & Protests due (60 days after Application Acceptance) | December 20, 2004.
Additional Information Due (90 days from Application Acceptance) | January 19, 2005.
Notice for Mandatory Terms & Conditions, Recommendations, Application Amendments, Ready for Environmental Analysis | March 15, 2005.
Application Amendments Due (30 days after Notice) | April 13, 2005.
Portland General Electric files Settlement Agreement In Principle and Biological Evaluation, and resubmits 401 Water Quality Certificate application | April 30, 2005.
Mandatory Terms & Conditions & Recommendations due (60 days from Mandatory Terms Notice) | May 13, 2005.
Portland General Electric's reply to Mandatory Terms & Conditions and Recommendations (105 days from Notice) | June 27, 2005.
Issue Draft Environmental Impact Statement (DEIS) and Biological Assessment; Initiate Endangered Species Act Consultation (ESA) | August 31, 2005.
Comments due on DEIS (45 days after issuance) | October 14, 2005.
ESA Completed; Biological Opinion due (135 days from initiation) | January 12, 2006.
Final Environmental Impact Statement (FEIS) Issued | March 15, 2006.
Forest Service files final 4(e) conditions (30 days after FEIS) | April 13, 2006.
Action due on 401 Water Quality Certificate application (one year after submittal) | April 30, 2006.
Ready for Commission Action | July 30, 2006.

q. Final amendments to the application must be filed with the Commission no later than 30 days from the date of the Commission's issuance of the Notice Soliciting Terms and Conditions and Recommendations.

r. The license applicant must file no later than 60 days following the date of this Notice of Acceptance: (1) A copy of the water quality certification; or (2) a copy of the request for certification, including proof of the date on which the certifying agency received the request; or (3) evidence of waiver of water quality certification.

Magalie R. Salas,
Secretary.

[FR Doc. E4-2884 Filed 10-27-04; 8:45 am]

BILLING CODE 6717-01-P